DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS).

Title: Delivery Verification Certificate and Procedure.

OMB Control Number: 0694-0016.

Form Number(s): BIS-647P.

Type of Request: Regular submission (extension of a currently approved information collection).

Burden Hours: 56.

Number of Respondents: 100.

Average Hours per Response: 30 minutes to complete BIS-647P; 1 minute for recordkeeping requirement; and 4 hours for a special circumstance.

Needs and Uses: The Delivery Verification Certificate is the result of an agreement between the United States and a number of other countries to increase the effectiveness of their respective controls over international trade in strategic commodities. The form is issued and certified by the government of the country of ultimate destination, at the request of the U.S. government (BIS). Supplement No. 5 to Part 748 of the current Export Administration Regulations covers three special circumstances in which the usual procedure for the Delivery Verification Certificate would require clarification.

Affected Public: Business or other for-profit organizations; not-for-profit institutions.

Frequency: On occasion.

Respondent's Obligation: Required to obtain or retain benefits.

OMB Desk Officer: Jasmeet Seehra, (202) 395-3123.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to Jasmeet Seehra, Jasmeet_K._Seehra@omb.eop.gov, or by fax to (202) 395-5167.

Dated: September 15, 2010.
Gwellnar Banks,
Management Analyst, Office of the Chief Information Officer.

[FR Doc. 2010-23431 Filed 9-20-10; 8:45 am]

BILLING CODE 3510-33-P